DEPARTMENT OF HEALTH AND HUMAN SERVICES

Solicitation for Applications From Individuals Interested in Being Appointed to the Chronic Fatigue Syndrome Advisory Committee

AGENCY: Office of the Assistant Secretary for Health, Office of the Secretary, Department of Health and Human Services.

ACTION: Notice.

Authority: 42 U.S.C. 217a, Section 222 of the Public Health Service Act, as amended. The Committee is governed by the provisions of the Federal Advisory Committee Act, Public Law 92-463, as amended (5 U.S.C. App.), which sets forth standards for the formation and use of advisory committees.

SUMMARY: The Office of the Assistant Secretary for Health (OASH), within the Department of Health and Human Services (HHS), is seeking nominations of six qualified candidates to be considered for appointment as members of the Chronic Fatigue Syndrome Advisory Committee (CFSAC). CFSAC provides advice and recommendations to the Secretary of HHS, through the Assistant Secretary for Health (ASH), on a broad range of issues and topics related to myalgic encephalomyelitis/chronic fatigue syndrome (ME/CFS).

DATES: Applications for individuals to be considered for appointment to the Committee must be received no later than 5 p.m. EDT on April 23, 2018 at the address listed below.

ADDRESSES: All nominations should be mailed or delivered to Commander (CDR) Gustavo Ceinos, MPH, Designated Federal Officer, Chronic Fatigue Syndrome Advisory Committee, Office on Women's Health, Office of the Assistant Secretary for Health, Department of Health and Human Services, 200 Independence Avenue SW, Room 728F6, Washington, DC 20201. Nomination materials, including attachments, may be submitted electronically to cfsac@hhs.gov.

FOR FURTHER INFORMATION CONTACT: CDR Gustavo Ceinos, Designated Federal Officer, Chronic Fatigue Syndrome Advisory Committee, Office on Women's Health, Office of the Assistant Secretary for Health, Department of Health and Human Services, 200 Independence Ave. SW, Room 728F6, Washington, DC 20201. Inquiries may also be made to cfsac@hhs.gov.

SUPPLEMENTARY INFORMATION: CFSAC was established on September 5, 2002. The purpose of the CFSAC is to provide advice and recommendations to the Secretary of HHS, through the ASH, on issues related to ME/CFS. The CFSAC advises and makes recommendations on a broad range of topics including: (1) Opportunities to improve knowledge and research about the epidemiology, etiologies, biomarkers and risk factors for ME/CFS; (2) research on the diagnosis, treatment, and management of ME/CFS and potential impact of treatment options; (3) strategies to inform the public, health care professionals, and the biomedical academic and research communities about ME/CFS advances; (4) partnerships to improve the quality of life of ME/CFS patients; and (5) strategies to insure that input from ME/CFS patients and caregivers is incorporated into HHS policy and research. The CFSAC charter is available at: http://www.hhs.gov/advcomcfs/charter/index.html.

Management and support services for Committee activities are provided within the OASH. The ASH provides direction and guidance for services performed to support CFSAC activities and operation.

Nominations: OASH is requesting nominations to fill six CFSAC positions. The Committee composition consists of thirteen members:

• Seven biomedical research scientists with demonstrated expertise in biomedical research applicable to ME/CFS;

• at least three patients or caregivers affected by ME/CFS; and

• three individuals with expertise in health care delivery, private health care services or insurers, or voluntary organizations concerned with the problems of individuals with ME/CFS.

The breakdown of the six vacant positions OASH is seeking is as follows:

• Four positions for biomedical research scientists with demonstrated expertise in biomedical research applicable to ME/CFS;

• one position for patients or caregivers affected by ME/CFS; and

• one position for an individual with expertise in health care delivery, private health care services or insurers, or voluntary organizations concerned with the problems of individuals with ME/CFS.

Individuals selected for appointment to the Committee will serve as voting members and may be invited to serve for a period of four years. CFSAC members are authorized to receive a stipend for conducting committee related business including attending Committee meetings. Committee members also are authorized to receive per diem and reimbursement for travel expenses incurred for conducting Committee related business. To qualify for consideration of appointment to the Committee, an individual must possess demonstrated experience and knowledge in the designated fields or disciplines, as well as expert knowledge of the broad issues and topics pertinent to ME/CFS.

Nomination materials should be typewritten. If mailed, please submit original documents. The nomination materials should be submitted (postmarked or received) no later than 5:00 p.m. EDT on the specified date. The following information must be part of the nomination package submitted for each individual being nominated:

(1) A nomination letter clearly stating:

a. Name and affiliation of the nominee;

b. qualifications of the nominee related to the focus area(s) described above (i.e., specific attributes which qualify the nominee for service in this capacity);

c. area (out of the three listed above) the nominee is interested in representing based on his/her experience and background;

d. statement that the nominee is willing to serve as a member of the Committee;

(2) The nominator's name, address, and daytime telephone number;

(3) The home and/or work address, telephone number, and email address of the individual being nominated;

(4) A current copy of the nominee's curriculum vitae or resume. The vitae or resume may be condensed to highlight the experience of the nominee related to the focus areas described above.

An individual may self-nominate to be on the Committee. Federal employees should not be nominated for consideration of appointment to this Committee. Nominations that do not contain all of the above information will not be considered.

Electronic submissions: Nomination materials, including attachments, may be submitted electronically to cfsac@hhs.gov. An email from the CFSAC Support Team will be sent to the nominating individual or nominee to confirm receipt of the nomination. If the email confirmation is not received within two working days, please call 202-690-7650.

Regular, Express, or Overnight Mail: Written documents may be submitted to the following addressee only: CDR Gustavo Ceinos, MPH, Designated Federal Officer, CFSAC, Office on Women's Health, Office of the Assistant Secretary for Health, Department of Health and Human Services, 200 Independence Ave. SW, Room 728F6, Washington, DC 20201.

Telephone and facsimile submissions cannot be accepted.

The Department makes every effort to ensure that the membership of federal advisory committees is fairly balanced in terms of points of view represented. Appointment to this Committee shall be made without discrimination on the basis of age, race, ethnicity, gender, sexual orientation, disability, and cultural, religious, or socioeconomic status. Nominations must state that the nominee is willing to serve as a member of CFSAC and appears to have no conflict of interest that would preclude membership. Candidates who are selected for appointment to the committee are required to provide detailed information concerning such matters as financial holdings, consultancies, and research grants or contracts for an ethics analysis to be conducted to identify potential conflicts of interest.

Dated: March 14, 2018.
Gustavo Ceinos,
CDR, USPHS, Designated Federal Officer, Chronic Fatigue Syndrome Advisory Committee.

[FR Doc. 2018-05833 Filed 3-21-18; 8:45 am]

BILLING CODE 4150-42-P